DEPARTMENT OF EDUCATION

Office of Innovation and Improvement (OII); Notice Reopening the Ready to Teach Program Fiscal Year (FY) 2005 Competition

Catalog of Federal Domestic Assistance (CFDA) Number: 84.286A and 84.286B.

Summary: On February 24, 2005, we published in the Federal Register (70 FR 9053) a notice inviting applications for the Ready to Teach program's FY 2005 competition. The original notice for this FY 2005 competition established an April 20, 2005, deadline date for eligible applicants to apply for funding under this program.

In order to afford as many eligible applicants as possible an opportunity to receive funding under this program, we are reopening the Ready to Teach program FY 2005 competition. The new application deadline date for the competition is May 6, 2005.

Dates: Deadline for Transmittal of Applications: May 6, 2005 (applications must be received at the Grants.gov/Apply Web site by 4:30 p.m., Washington, DC time).

Note: Applications for grants under the Ready to Teach program must be submitted electronically using the Grants.gov site. Through this site, you will be able to download a copy of the application package, complete it offline, and then upload and submit your application. You may not e-mail an electronic copy of a grant application to us. For information about how to submit your application electronically, please refer to Section IV. 6. Other Submission Requirements in the February 24, 2005, notice (70 FR 9056). We have not extended the deadline for submitting a statement that an applicant qualifies for an exception to the electronic submission requirement.

Deadline for Intergovernmental Review: The deadline date for Intergovernmental Review under Executive Order 12732 is extended to June 6, 2005.

For Further Information Contact: Sharon J. Harris-Morgan, U.S. Department of Education, 400 Maryland Avenue, SW., room 4W250, Washington, DC 20202-5980. Telephone: (202) 205-5880 or by e-mail: sharon.morgan@ed.gov.

If you use a telecommunications device for the deaf (TDD), you may call the Federal Relay Service (FRS) at 1-800-877-8339.

Individuals with disabilities may obtain this document in an alternative format (e.g., Braille, large print, audiotape, or computer diskette) on request to the program contact person listed in this section.

Supplementary Information: Any eligible applicant may apply for funding under this program by the deadline date in this notice. Eligible applicants that submitted their applications in a timely manner for the Ready to Teach program FY 2005 competition to the Department on or prior to the competition's original deadline date of April 20, 2005, are not required to re-submit their applications or re-apply in order to be considered for FY 2005 awards under this program. We encourage eligible applicants to submit their applications as soon as possible to avoid any problems with filing electronic applications on the last day. The deadline for submission of applications will not be extended any further.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 26, 2005.
Nina Shokraii Rees,
Assistant Deputy Secretary for Innovation and Improvement.

[FR Doc. 05-8614 Filed 4-28-05; 8:45 am]

BILLING CODE 4000-01-P